DEPARTMENT OF HOMELAND SECURITY

Coast Guard

33 CFR Part 117

[CGD08-05-036]

Drawbridge Operation Regulations; Port Allen Canal, Morley, LA

AGENCY: Coast Guard, DHS.

ACTION: Notice of temporary deviation from regulations.

SUMMARY: The Commander, Eighth Coast Guard District, has issued a temporary deviation from the regulation governing the operation of the Union Pacific Railroad Bridge across the Port Allen Canal, mile 8.7 (Gulf Intracoastal Canal, Morgan City to Port Allen (Alternate Route), mile 56.0), near Morley, West Baton Rouge Parish, Louisiana. This deviation allows the bridge to remain closed to navigation for eight hours on three consecutive days. The deviation is necessary to repair and replace the rail joints of the bridge.

DATES: This deviation is effective from 8 a.m. on Tuesday, June 21, 2005, until 4 p.m. on Thursday, June 23, 2005.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The Union Pacific Railroad Company has requested a temporary deviation in order to repair and replace the rail joints of the Union Pacific Railroad Vertical Lift Span Bridge across the Port Allen Canal, mile 8.7 (Gulf Intracoastal Canal, Morgan City to Port Allen (Alternate Route), mile 56.0), near Morley, West Baton Rouge Parish, Louisiana. This temporary deviation will allow the bridge to remain in the closed-to-navigation position from 8 a.m. to 4 p.m. from Tuesday, June 21, 2005, until Thursday, June 23, 2005. The bridge has a vertical clearance of 7 feet above mean high water in the closed-to-navigation position and 73 feet above mean high water in the open-to-navigation position. Navigation on the waterway consists mainly of tugs with tows. Alternate routes are not readily available. The bridge owner can open the bridge in case of an emergency. The repairs are necessary for continued safe operation of the draw span.

Due to prior experience, as well as coordination with waterway users, it has been determined that this closure will not have a significant effect on these vessels.

In accordance with 33 CFR 117.35(c), this work will be performed with all due speed in order to return the bridge to normal operation as soon as possible. This deviation from the operating regulations is authorized under 33 CFR 117.35.

Dated: June 2, 2005.
Marcus Redford,
Bridge Administrator.

[FR Doc. 05-11429 Filed 6-8-05; 8:45 am]

BILLING CODE 4910-15-P